DEPARTMENT OF TRANSPORTATION

Federal Aviation Administration

14 CFR Part 39

[Docket No. FAA-2010-1275; Directorate Identifier 2010-NM-091-AD; Amendment 39-16688; AD 2011-10-07]

RIN 2120-AA64

Airworthiness Directives; Airbus Model A310 Series Airplanes

AGENCY: Federal Aviation Administration (FAA), Department of Transportation (DOT).

ACTION: Final rule.

SUMMARY: We are adopting a new airworthiness directive (AD) for the products listed above. This AD results from mandatory continuing airworthiness information (MCA I) originated by an aviation authority of another country to identify and correct an unsafe condition on an aviation product. The MCAI describes the unsafe condition as:

DGAC [Direction Générale de l'Aviation Civile] France Airworthiness Directive (AD) 1992-106-132(B) * * * was issued to require a set of inspection- and modification tasks which addressed JAR/FAR [Joint Aviation Regulation/Federal Aviation Regulation] 25-571 requirements related to damage-tolerance and fatigue evaluation of structure.

* * * * *

The unsafe condition is reduced structural integrity of the wings. We are issuing this AD to require actions to correct the unsafe condition on these products.

DATES: This AD becomes effective June 15, 2011.

The Director of the Federal Register approved the incorporation by reference of certain publications listed in this AD as of June 15, 2011.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on January 3, 2011 (76 FR 34). That NPRM proposed to correct an unsafe condition for the specified products. The MCAI states:

DGAC [Direction Générale de l'Aviation Civile] France Airworthiness Directive (AD) 1992-106-132(B) original issue up to revision 7 was issued to require a set of inspection- and modification tasks which addressed JAR/FAR [Joint Aviation Regulation/Federal Aviation Regulation] 25-571 requirements related to damage-tolerance and fatigue evaluation of structure [FAA AD 98-26-01 corresponds to DGAC AD 1992-106-132(B)R4, dated June 5, 1996].

Following the Extended Design Service Goal activities as part of the Structure Task Group for the Airbus A310 program, EASA issued AD 2007-0053 which replaced DGAC France AD F-1992-106-132R7. Since the issuance of that AD, the thresholds and the intervals of some Airbus Service Bulletins (SBs which address structure fatigue related areas on the wing parts), until now part of the requirements of AD 2007-0053, have been updated.

For the reasons stated above, this new [EASA] AD requires the accomplishment of the structural fatigue-related corrective actions in accordance with the latest revision of these SBs which have been reviewed in the context of the A310 Extended Service Goal activities. Consequently, this new AD supersedes the requirements of paragraphs 1.8, 1.9, 1.10, 1.13, 1.18 of EASA AD 2007-0053, which has been revised accordingly.

The unsafe condition is reduced structural integrity of the wings. The required corrective actions are as follows, depending on airplane configuration:

• For certain Model A310-203 and A310-222 airplanes: Repetitive detailed inspections for cracking of the leading edge access panels around the bolt holes, and repair if necessary.

• For certain Model A310-203, A310-204, A310-222, A310-304, A310-322, A310-324, and A310-325 airplanes: Repetitive eddy current inspections to detect cracks in the holes around the overwing refueling aperture at ribs 13-14, and repair if necessary.

• For certain Model A310-203, A310-204, A310-222, A310-304, A310-322, A310-324, and A310-325 airplanes: Repetitive external detailed inspections for cracking of the top skin at ribs 13-14, repetitive internal detailed inspections for cracking of stringer 7 and stringer 8 of the overwing refuel aperture, and repair if necessary.

• For certain Model A310-203 and A310-222 airplanes: Repetitive detailed inspections for cracking around the bolts in the wing top skin upper surface of the front spar between rib 7 and rib 28, and repair if necessary.

• For certain Model A310-203 and A310-222 airplanes: Repetitive high frequency eddy current (HFEC) or X-ray inspections to detect cracking of the stringer runouts inboard and outboard of rib 14 at stringers 6, 7, 8, and 9, and repair if necessary.

• For certain Model A310-203, A310-204, A310-222, A310-304, A310-322, and A310-324 airplanes: Repetitive ultrasonic inspections for cracking in certain bolt holes where the main landing gear forward pick-up fitting is attached to the rear spar, and repair if necessary.

You may obtain further information by examining the MCAI in the AD docket.

Comments

We gave the public the opportunity to participate in developing this AD. We received no comments on the NPRM or on the determination of the cost to the public.

Explanation of Changes to This AD

We have moved the parenthetical information from paragraphs (g), (i), (j), (o), and (q)(1), (q)(2), and (q)(3) of this AD. Instead, we have provided that information in Note 1, Note 3, Note 4, Note 6, and Note 8 of this AD.

We have also revised tables 3 and 4 of this AD to refer to Model “A310-322” instead of “A310A-322.” We inadvertently referred to “A310A-322” in the NPRM.

Conclusion

We reviewed the available data and determined that air safety and the public interest require adopting the AD with the changes described previously. We determined that these change will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 44 products of U.S. registry. We also estimate that it will take about 97 work-hours per product to comply with the basic requirements of this AD. The average labor rate is $85 per work-hour. Based on these figures, we estimate the cost of this AD to the U.S. operators to be $362,780, or $8,245 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a ”significant regulatory action” under Executive Order 12866;

2. Is not a ”significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-10-07 Airbus: Amendment 39-16688. Docket No. FAA-2010-1275; Directorate Identifier 2010-NM-091-AD.

Effective Date

(a) This airworthiness directive (AD) becomes effective June 15, 2011.

Affected ADs

(b) This AD affects AD 90-19-07, Amendment 39-6731 (55 FR 37455, September 12, 1990); and AD 91-06-18, Amendment 39-6940 (56 FR 10796, March 14, 1991).

Applicability

(c) This AD applies to Airbus Model A310-203, -204, -221, -222, -304, -322, -324, and -325 airplanes, certificated in any category, all certified models, all serial numbers.

Subject

(d) Air Transport Association (ATA) of America Code 57: Wings.

Reason

(e) The mandatory continuing airworthiness information (MCAI) states:

DGAC [Direction Générale de l'Aviation Civile] France Airworthiness Directive (AD) 1992-106-132(B) * * * was issued to require a set of inspection- and modification tasks which addressed JAR/FAR [Joint Aviation Regulation/Federal Aviation Regulation] 25-571 requirements related to damage-tolerance and fatigue evaluation of structure.

* * * * *

The unsafe condition is reduced structural integrity of the wings.

Compliance

(f) You are responsible for having the actions required by this AD performed within the compliance times specified, unless the actions have already been done.

Restatement of Certain Requirements of AD 98-26-01, Amendment 39-10942 (63 FR 69179, December 16, 1998), With Reduced Compliance Times

Leading Edge Access Panels Landing—Lower Skin—Inspection for Cracks at Bolt Holes

(g) For Model A310-203 and A310-222 airplanes listed in Airbus Service Bulletin A310-57-2002, Revision 2, dated January 4, 1996, except airplanes on which Airbus modification No. 05101 has been embodied in production, or on which Airbus Service Bulletin A310-57-2003 has been embodied in service before the accumulation of 9,400 total flight cycles and 18,800 total flight hours: At the times specified in paragraph (h) of this AD, perform a detailed visual inspection to detect cracks in the external surface of the wing lower skin around the landing access panel holes of the leading edge, in accordance with the Airbus Service Bulletin A310-57-2002, Revision 1, dated July 2, 1992; Airbus Service Bulletin A310-57-2002, Revision 2, dated January 4, 1996; or Airbus Mandatory Service Bulletin A310-57-2002, Revision 03, dated November 28, 2006. If any discrepancy is found, prior to further flight, repair in accordance with a method approved by either the Manager, International Branch, ANM-116, FAA, Transport Airplane Directorate, or the Direction Générale de l'Aviation Civile (DGAC) (or its delegated agent) or EASA (or its delegated agent). Except as required by paragraph (n) of this AD, repeat the detailed inspection specified in this paragraph at the earlier of the times specified in paragraphs (g)(1) and (g)(2) of this AD; and thereafter at intervals not to exceed 2,300 flight cycles or 4,700 flight hours, whichever occurs first. As of the effective date of this AD, use only Airbus Mandatory Service Bulletin A310-57-2002, Revision 03, dated November 28, 2006. Accomplishment of Airbus Modification 05101 before the effective date of this AD terminates the repetitive inspection requirements of this paragraph; however, airplanes identified in paragraph (n) of this AD are applicable to the new inspections required by paragraph (n) of this AD. As of the effective date of this AD: Accomplishment of Airbus Modification 05101 before the accumulation of 9,400 total flight cycles and 18,800 total flight hours terminates the repetitive inspection requirements of this paragraph.

Note 1: Airbus Service Bulletin A310-57-2003, Revision 03, dated October 16, 2006, is an additional source of guidance for accomplishing Airbus Modification 05101.

Note 2: As of the effective date of this AD, if Airbus Service Bulletin A310-57-2003 is done on or after the accumulation of 9,400 total flight cycles or on or after the accumulation of 18,800 total flight hours, the actions specified in paragraph (g) of this AD are still required.

(1) Within 3,000 flight cycles after doing the detailed inspection specified in paragraph (g) of this AD.

(2) At the later of the times specified in paragraphs (g)(2)(i) and (g)(2)(ii) of this AD.

(i) Within 2,300 flight cycles or 4,700 flight hours, whichever occurs first, after doing the detailed inspection required by paragraph (g) of this AD.

(ii) Within 1,500 flight cycles or 3,000 flight hours, whichever occurs first, after the effective date of this AD.

(h) For Model A310-203 and A310-222 airplanes listed in Airbus Service Bulletin A310-57-2002, Revision 2, dated January 4, 1996, except airplanes on which Airbus modification No. 05101 has been embodied in production, or on which Airbus Service Bulletin A310-57-2003 has been embodied in service before the accumulation of 9,400 total flight cycles and 18,800 total flight hours: At the earlier of the times specified in paragraphs (h)(1) and (h)(2) of this AD, do the detailed inspection required by paragraph (g) of this AD.

(1) Prior to the accumulation of 12,000 total flight cycles, or within 1,000 flight cycles after January 20, 1999 (the effective date of AD 98-26-01, amendment 39-10942), whichever occurs later.

(2) At the later of the times specified in paragraph (h)(2)(i) and (h)(2)(ii) of this AD.

(i) Prior to the accumulation of 9,400 total flight cycles or 18,800 total flight hours, whichever occurs first.

(ii) Within 1,500 flight cycles or 3,000 flight hours, whichever occurs first, after the effective date of this AD.

Inspect Area around Overwing Refueling Aperture at Ribs 13-14

(i) For Model A310-203, A310-204, A310-222, A310-304, A310-322, A310-324, and A310-325 airplanes that are listed in Airbus Service Bulletin A310-57-2006, Revision 3, dated May 2, 1996, and are identified as Configuration 1 in Airbus Mandatory Service Bulletin A310-57-2006, Revision 04, dated May 21, 2007: Prior to the accumulation of 6,000 total flight cycles, or within 1,000 flight cycles after January 20, 1999, whichever occurs later, perform an eddy current inspection to detect cracks in the holes around the overwing refueling aperture at ribs 13-14, in accordance with Airbus Service Bulletin A310-57-2006, Revision 3, dated May 2, 1996; or Airbus Mandatory Service Bulletin A310-57-2006, Revision 04, dated May 21, 2007. If any discrepancy is found, prior to further flight, perform follow-on corrective actions, as applicable, in accordance with Airbus Service Bulletin A310-57-2006, Revision 3, dated May 2, 1996; or Airbus Mandatory Service Bulletin A310-57-2006, Revision 04, dated May 21, 2007; except where the service bulletin specifies to contact Airbus for repair, before further flight, repair in accordance with a method approved by either the Manager, International Branch, ANM-116, FAA, Transport Airplane Directorate, or the DGAC (or its delegated agent) or EASA (or its delegated agent). Repeat the inspection specified in this paragraph at the earlier of the times specified in paragraphs (i)(1) and (i)(2) of this AD, and thereafter at intervals not to exceed 2,300 flight cycles or 4,600 flight hours, whichever occurs first. As of the effective date of this AD, use only Airbus Mandatory Service Bulletin A310-57-2006, Revision 04, dated May 21, 2007. Accomplishment of Airbus Modification 05891H5128 terminates the repetitive inspections required by this paragraph.

(1) Within 3,000 flight cycles after doing the last inspection required by paragraph (i) of this AD.

(2) At the later of the times specified in paragraphs (i)(2)(i) and (i)(2)(ii) of this AD.

(i) Within 2,300 flight cycles or 4,600 flight hours, whichever occurs first, after doing the most recent inspection required by paragraph (i) of this AD.

(ii) Within 380 flight cycles or 770 flight hours, whichever occurs first, after the effective date of this AD.

Note 3: Airbus Service Bulletin A310-57-2020, Revision 07, dated June 5, 2006, is an additional source of guidance for accomplishing Airbus Modification 05891H5128.

Upper Skin Forward of Front Spar—Inspection for Cracks

(j) For Model A310-203 and A310-222 airplanes listed in Airbus Service Bulletin A310-57-2032, Revision 3, dated January 4, 1996, except airplanes on which Airbus modification 05026 has been embodied in production, or on which Airbus Service Bulletin A310-57-2005 has been done in service before the accumulation of 10,500 total flight cycles and 21,000 total flight hours: At the times specified in paragraph (k) of this AD, perform a detailed visual inspection to detect cracks around the bolts in the wing top skin upper surface of the front spar between rib 7 and rib 28, in accordance with the Accomplishment Instructions of Airbus Service Bulletin A310-57-2032, Revision 3, dated January 4, 1996; or Airbus Mandatory Service Bulletin A310-57-2032, Revision 04, dated December 1, 2006. If any discrepancy is found, prior to further flight, repair in accordance with a method approved by either the Manager, International Branch, ANM-116, FAA, Transport Airplane Directorate, or DGAC (or its delegated agent) or EASA (or its delegated agent). Except as required by paragraph (p) of this AD, repeat the detailed inspection specified in this paragraph at the earlier of the times specified in paragraphs (j)(1) and (j)(2) of this AD, and thereafter at intervals not to exceed 3,900 flight cycles or 7,900 flight hours, whichever occurs first. As of the effective date of this AD, use only Airbus Mandatory Service Bulletin A310-57-2032, Revision 04, dated December 1, 2006. Accomplishment of Airbus Modification 05026H0878 before the effective date of this AD terminates the repetitive inspection requirements of this paragraph; however, airplanes identified in paragraph (p) of this AD are applicable to the new inspections required by paragraph (p) of this AD. As of the effective date of this AD: Accomplishment of Airbus Modification 05026H0878 before the accumulation of 10,500 total flight cycles and 21,000 total flight hours terminates the repetitive inspection requirements of this paragraph.

(1) Within 4,500 flight cycles after doing the last inspection required by paragraph (j) of this AD.

(2) At the later of the times specified in paragraphs (j)(2)(i) and (j)(2)(ii) of this AD.

(i) Within 3,900 flight cycles or 7,900 flight hours, whichever occurs first, after doing the most recent inspection required by paragraph (j) of this AD.

(ii) Within 850 flight cycles or 1,700 flight hours, whichever occurs first, after the effective date of this AD.

Note 4: Airbus Service Bulletin A310-57-2005, Revision 03, dated October 2, 2006, is an additional source of guidance for accomplishing Airbus Modification 05026H0878.

Note 5: As of the effective date of this AD, if Airbus Service Bulletin A310-57-2005 is done on or after the accumulation of 10,500 total flight cycles or on or after the accumulation of 21,000 total flight hours, the actions specified in paragraph (j) of this AD are still required.

(k) For Model A310-203 and A310-222 airplanes listed in Airbus Service Bulletin A310-57-2032, Revision 3, dated January 4, 1996, except airplanes on which Airbus modification 05026 has been embodied in production, or on which Airbus Service Bulletin A310-57-2005 has been done in service before the accumulation of 10,500 total flight cycles and 21,000 total flight hours: At the earlier of the times specified in paragraphs (k)(1) and (k)(2) of this AD, do the detailed inspection required by paragraph (j) of this AD.

(1) Prior to the accumulation of 12,000 total flight cycles, or within 1,000 flight cycles after January 20, 1999, whichever occurs later.

(2) At the later of the times specified in paragraphs (k)(2)(i) and (k)(2)(ii) of this AD.

(i) Prior to the accumulation of 10,500 total flight cycles or 21,000 total flight hours, whichever occurs first.

(ii) Within 850 flight cycles or 1,700 flight hours, whichever occurs first, after the effective date of this AD.

Stringer Flanges at Rib 14 Wing Bottom Skin—Inspect for Cracks

(l) For Model A310-203 and A310-222 airplanes listed in Airbus Service Bulletin A310-57-2038, Revision 2, dated January 4, 1996, except airplanes on which Airbus modification 04987 has been done in production: At the compliance time specified in paragraph (m) of this AD, perform a high frequency eddy current (HFEC) or X-ray inspection to detect cracking of the stringer runouts inboard and outboard of rib 14 at stringers 6, 7, 8, and 9, in accordance with the Accomplishment Instructions of Airbus Service Bulletin A310-57-2038, Revision 2, dated January 4, 1996; or Airbus Mandatory Service Bulletin A310-57-2038, Revision 04, dated October 19, 2006. Do the next inspection at the earlier of the times specified in paragraph (l)(1) and (l)(2) of this AD, and repeat the inspection thereafter at intervals not to exceed the applicable times specified in table 1 of this AD. If any crack is detected, prior to further flight, repair in accordance with a method approved by either the Manager, International Branch, ANM-116, FAA, Transport Airplane Directorate, or DGAC (or its delegated agent) or EASA (or its delegated agent). As of the effective date of this AD, use only Airbus Mandatory Service Bulletin A310-57-2038, Revision 04, dated October 19, 2006.

(1) Within the applicable interval specified in paragraph 1.B.(5) of Airbus Service Bulletin A310-57-2038, Revision 2, dated January 4, 1996.

(2) At the later of the times specified in paragraph (l)(2)(i) and (l)(2)(ii) of this AD.

(i) Within the applicable interval specified in table 1 of this AD after doing the most recent inspection specified in paragraph (l) of this AD.

(ii) Within 1,100 flight cycles or 2,300 flight hours, whichever occurs first, after the effective date of this AD.

Table 1—Repetitive Intervals, Depending on Inspection Type
Type of inspection | Repetitive interval (not to exceed)
X-Ray | 7,200 flight cycles or 14,500 flight hours, whichever occurs first.
HFEC | 9,400 flight cycles or 18,800 flight hours, whichever occurs first.

(m) For Model A310-203 and A310-222 airplanes listed in Airbus Service Bulletin A310-57-2038, Revision 2, dated January 4, 1996, except airplanes on which Airbus modification 04987 has been done in production: At the earlier of the times specified in paragraphs (m)(1) and (m)(2) of this AD, perform an inspection required by paragraph (l) of this AD.

(1) Prior to the accumulation of 12,000 total flight cycles, or within 1,500 flight cycles after January 20, 1999, whichever occurs later.

(2) At the later of the times specified in paragraphs (m)(2)(i) and (m)(2)(ii) of this AD.

(i) Prior to the accumulation of 12,000 total flight cycles or 24,000 total flight hours, whichever occurs first.

(ii) Within 1,100 flight cycles or 2,300 flight hours after the effective date of this AD, whichever occurs first.

New Requirements of This AD

Leading Edge Access Panels Landing—Lower Skin—Inspection for Cracks at Bolt Holes—Additional Inspections for Certain Airplanes

(n) For Model A310-203 and A310-222 airplanes, on which Airbus Service Bulletin A310-57-2003 has been done in service on or after the accumulation of 9,400 total flight cycles or on or after the accumulation of 18,800 total flight hours: Do the inspection required by paragraph (g) of this AD at the later of the times specified in paragraphs (n)(1) and (n)(2) of this AD. Repeat the inspection required by paragraph (g) of this AD thereafter at intervals not to exceed 2,300 flight cycles or 4,700 flight hours, whichever occurs first.

(1) Within 2,300 flight cycles or 4,700 flight hours, whichever occurs first, after doing the most recent detailed inspection required by paragraph (g) of this AD.

(2) Within 1,500 flight cycles or 3,000 flight hours, after the effective date of this AD, whichever occurs first.

Inspect Area Around Overwing Refueling Aperture at Ribs 13-14 for Additional Airplanes

(o) For Model A310-203, A310-204, A310-222, A310-304, A310-322, A310-324, and A310-325 airplanes, except for airplanes identified in paragraph (i) of this AD on which Airbus Modification 05891H5128 has not been done: At the applicable compliance time specified in table 2 of this AD, do the applicable actions specified in paragraph (o)(1) or (o)(2) of this AD, in accordance with the Accomplishment Instructions of Airbus Mandatory Service Bulletin A310-57-2006, Revision 04, dated May 21, 2007. If any cracking is found, before further flight, repair in accordance with the Accomplishment Instructions of Airbus Mandatory Service Bulletin A310-57-2006, Revision 04, dated May 21, 2007; except where this service bulletin specifies to contact Airbus for repair, before further flight, repair in accordance with a method approved by either the Manager, International Branch, ANM-116, FAA, Transport Airplane Directorate, or EASA (or its delegated agent). Repeat the inspections thereafter at the applicable interval specified in table 2 of this AD. Certain compliance times specified in table 2 of this AD are applicable to short range use, average flight time (AFT) equal to or less than 4.0 hours, or long range use, AFT exceeding 4.0 hours. For airplanes identified as Configuration 01 in Airbus Mandatory Service Bulletin A310-57-2006, Revision 04, dated May 21, 2007, accomplishment of Airbus Modification 05891H5128 terminates the repetitive inspections required by this paragraph for Configuration 01 airplanes; thereafter do the applicable actions specified in paragraph (o)(2) of this AD at the times specified in table 2 of this AD.

Note 6: Airbus Service Bulletin A310-57-2020, Revision 07, dated June 5, 2006, is an additional source of guidance for accomplishing Airbus Modification 05891H5128.

(1) For Configuration 01 airplanes, as identified in Airbus Mandatory Service Bulletin A310-57-2006, Revision 04, dated May 21, 2007: Do a rotating probe eddy current inspection for cracking in the holes around the overwing refueling aperture at ribs 13-14.

(2) For Configuration 02 through 06 airplanes, as identified in Airbus Mandatory Service Bulletin A310-57-2006, Revision 04, dated May 21, 2007: Do an external detailed inspection for cracking of the top skin at ribs 13-14, and an internal detailed inspection for cracking of string 7 and string 8 of the overwing refuel aperture.

Table 2—Compliance Times for Configuration 01 Through 06 Airplanes
Airplanes as Identified in Airbus Mandatory Service Bulletin A310-57-2006, revision 04, dated May 21, 2007 | Compliance time (whichever occurs later) |  | Repetitive interval (not to exceed)
Configuration 01 airplanes | Prior to the accumulation of 6,000 total flight cycles | Within 380 flight cycles or 770 flight hours, whichever occurs first, after the effective date of this AD | 2,300 flight cycles or 4,600 flight hours, whichever occurs first.
Configuration 02 airplanes | Within 30,900 flight cycles or 61,900 flight hours, whichever occurs first, after accomplishing Airbus Service Bulletin A310-57-2020 | Within 1,500 flight cycles or 18 months, whichever occurs first, after the effective date of this AD | 11,300 flight cycles or 22,600 flight hours, whichever occurs first.
Configuration 03 airplanes | Within 30,900 flight cycles or 61,900 flight hours, whichever occurs first, after Airbus Modification 05891H5128 is done or Airbus Service Bulletin A310-57-2020 is accomplished | Within 1,500 flight cycles or 18 months, whichever occurs first, after the effective date of this AD | 12,000 flight cycles or 24,000 flight hours, whichever occurs first.
Configuration 04 and 05 short range airplanes | Before the accumulation of 25,900 total flight cycles or 72,500 total flight hours, whichever occurs first | Within 1,500 flight cycles or 18 months, whichever occurs first, after the effective date of this AD | 12,000 flight cycles or 33,600 flight hours, whichever occurs first.
Configuration 04 and 05 long range airplanes | Before the accumulation of 18,800 total flight cycles or 94,200 total flight hours, whichever occurs first | Within 1,500 flight cycles or 18 months, whichever occurs first, after the effective date of this AD | 9,400 flight cycles or 47,200 flight hours, whichever occurs first.
Configuration 06 | Before the accumulation of 30,900 total flight cycles or 61,900 total flight hours, whichever occurs first | Within 1,500 flight cycles or 18 months, whichever occurs first, after the effective date of this AD | 12,000 flight cycles or 24,000 flight hours, whichever occurs first.

Upper Skin Forward of Front Spar—Inspection for Cracks—Additional Inspections for Certain Airplanes

(p) For Model A310-203 and A310-222 airplanes on which Airbus Service Bulletin A310-57-2005 has been done in service on or after the accumulation of 10,500 total flight cycles or on or after 21,000 total flight hours: Do the inspection required by paragraph (j) of this AD at the later of the times specified in paragraphs (p)(1) and (p)(2) of this AD. Repeat the inspection specified in paragraph (j) of this AD thereafter at intervals not to exceed 3,900 flight cycles or 7,900 flight hours, whichever occurs first.

(1) Within 3,900 flight cycles or 7,900 flight hours, whichever occurs first, after doing the most recent inspection required by paragraph (j) of this AD.

(2) Within 850 flight cycles or 1,700 flight hours, whichever occurs first, after the effective date of this AD.

Inspection of Rear Spar at Selected Bolt Locations for Attachment of Main landing Gear Forward Pick-Up Fitting

(q) For Model A310-203, A310-204, A310-222, A310-304, A310-322, and A310-324 airplanes, except airplanes on which Airbus modification 07601 has been done in production: Do the applicable actions specified in paragraphs (q)(1), (q)(2), and (q)(3) of this AD. If any cracking is found during any inspection, before further flight, repair in accordance with a method approved by either the Manager, International Branch, ANM-116, FAA, Transport Airplane Directorate, or EASA (or its delegated agent).

Note 7: For Model A310-304, A310-322, and A310-324 airplanes on which Airbus modification 07601 has been done, guidance for post-modification inspections can be found in Structure Significant Item (SSI) 57.21.16 of the Maintenance Review Board Document (MRBD).

(1) For airplanes on which Airbus Modification 07925H1113 and Modification 11578H5436 have not been done: At the applicable time specified in table 3 of this AD, perform an ultrasonic inspection for cracking in certain bolt holes where the main landing gear forward pick-up fitting is attached to the rear spar, in accordance with the Accomplishment Instructions of Airbus Mandatory Service Bulletin A310-57-2046, Revision 08, dated December 1, 2006. Repeat the inspection thereafter at the applicable interval specified in table 3 of this AD until Airbus Modification 07925H1113 or 11578H5436 has been done. After doing Airbus Modification 07925H1113 or 11578H5436 do the applicable actions specified in paragraph (q)(2) or (q)(3) of this AD at the times specified in paragraph (q)(2) or (q)(3) of this AD, as applicable. Certain compliance times specified in table 3 of this AD are applicable to short range use, average flight time (AFT) equal to or less than 4.0 hours, or long range use, AFT exceeding 4.0 hours.

Note 8: Airbus Service Bulletin A310-57-2049, Revision 6, dated November 26, 1997, is an additional source of guidance for accomplishing Airbus Modification 07925H1113. Airbus Service Bulletin A310-57-2074, Revision 03, dated July 3, 2006, is an additional source of guidance for accomplishing Airbus Modification 11578H5436.

Table 3—Compliance Times for Airplanes Pre-Mod 07925 and Pre-Mod 11578
Airplanes | Compliance time (whichever occurs later) |  | Repetitive interval (not to exceed)
Model A310-203, A310-204, and A310-222 airplanes | Prior to the accumulation of 9,800 total flight cycles or 19,600 total flight hours, whichever occurs first | Within 750 flight cycles or 1,500 flight hours, whichever occurs first, after the effective date of this AD | 2,800 flight cycles or 5,700 flight hours, whichever occurs first.
Model A310-304, A310-322, and A310-324 short range airplanes | Prior to the accumulation of 7,100 total flight cycles or 20,100 total flight hours, whichever occurs first | Within 750 flight cycles or 1,500 flight hours, whichever occurs first, after the effective date of this AD | 2,400 flight cycles or 6,900 flight hours, whichever occurs first.
Model A310-304, A310-322, and A310-324 long range airplanes | Prior to the accumulation of 5,700 total flight cycles or 28,600 total flight hours, whichever occurs first | Within 750 flight cycles or 1,500 flight hours, whichever occurs first, after the effective date of this AD | 1,900 flight cycles or 9,800 flight hours, whichever occurs first.

(2) For airplanes on which Airbus Modification 07925H1113 has been done: At the applicable time specified in table 4 of this AD, perform an ultrasonic inspection for cracking in certain bolt holes where the main landing gear forward pick-up fitting is attached to the rear spar, in accordance with the Accomplishment Instructions of Airbus Mandatory Service Bulletin A310-57-2046, Revision 08, dated December 1, 2006. Repeat the inspection thereafter at the applicable interval specified in table 4 of this AD. Certain compliance times specified in table 4 of this AD are applicable to short range use, AFT equal to or less than 4.0 hours, or long range use, AFT exceeding 4.0 hours.

Table 4—Compliance Times for Airplanes Post-Mod 07925
— | — | — | —
Airplanes | Compliance time (whichever occurs later) |  | Repetitive interval (not to exceed)
Model A310-203, A310-204, and A310-222 airplanes | Prior to the accumulation of 14,700 total flight cycles or 29,400 total flight hours, whichever occurs first | Within 750 flight cycles or 1,500 flight hours, whichever occurs first, after the effective date of this AD | 9,400 flight cycles or 18,900 flight hours, whichever occurs first.
Model A310-304, A310-322, and A310-324 short range airplanes | Prior to the accumulation of 11,900 total flight cycles or 33,500 total flight hours, whichever occurs first | Within 750 flight cycles or 1,500 flight hours, whichever occurs first, after the effective date of this AD | 5,000 flight cycles or 14,000 flight hours, whichever occurs first.
Model A310-304, A310-322, and A310-324 long range airplanes | Prior to the accumulation of 9,500 total flight cycles or 47,700 total flight hours, whichever occurs first | Within 750 flight cycles or 1,500 flight hours, whichever occurs first, after the effective date of this AD | 4,000 flight cycles or 20,000 flight hours, whichever occurs first.

(3) For airplanes on which Airbus Modification 11578H5436 has been done: At the applicable time specified in table 5 of this AD, perform an ultrasonic inspection for cracking in certain bolt holes where the main landing gear forward pick-up fitting is attached to the rear spar, in accordance with the Accomplishment Instructions of Airbus Mandatory Service Bulletin A310-57-2046, Revision 08, dated December 1, 2006. Repeat the inspection thereafter at the applicable interval specified in table 5 of this AD. Certain compliance times specified in table 5 of this AD are applicable to short range use, average flight time (AFT) equal to or less than 4.0 hours, or long range use, AFT exceeding 4.0 hours.

Table 5—Compliance Times for Airplanes Post-Mod 11578
Airplanes | Compliance time (whichever occurs later) |  | Repetitive interval (not to exceed)
Model A310-203, A310-204, and A310-222 airplanes | Within 29,600 flight cycles or 59,200 flight hours, whichever occurs first, after Airbus Modification 11578H5436 has been done | Within 750 flight cycles or 1,500 flight hours, whichever occurs first, after the effective date of this AD | 9,400 flight cycles or 18,900 flight hours, whichever occurs first.
Model A310-304, A310-322, and A310-324 short range airplanes | Within 24,200 flight cycles or 67,900 flight hours, whichever occurs first, after Airbus Modification 11578H5436 has been done | Within 750 flight cycles or 1,500 flight hours, whichever occurs first, after the effective date of this AD | 5,000 flight cycles or 14,000 flight hours, whichever occurs first.
Model A310-304, A310-322, and A310-324 long range airplanes | Within 19,300 flight cycles or 96,800 flight hours, whichever occurs first, after Airbus Modification 11578H5436 has been done | Within 750 flight cycles or 1,500 flight hours, whichever occurs first, after the effective date of this AD | 4,000 flight cycles or 20,000 flight hours, whichever occurs first.

Credit for Actions Accomplished in Accordance With Previous Service Information

(r) Actions done before the effective date of this AD in accordance with Airbus Service Bulletin A310-57-2038, Revision 03, dated September 4, 1998, are acceptable for compliance with the corresponding actions specified in paragraph (l) of this AD.

(s) Actions done before the effective date of this AD in accordance with Airbus Service Bulletin A310-57-2046, Revision 07, dated April 2, 1999, are acceptable for compliance with the corresponding actions specified in paragraph (q) of this AD.

Terminating Action for Paragraph (a) of AD 90-19-07

(t) Accomplishing an inspection in accordance with Airbus Service Bulletin A310-57-2038, Revision 2, dated January 4, 1996, or Revision 03, dated September 4, 1998; or Airbus Mandatory Service Bulletin A310-57-2038, Revision 04, dated October 19, 2006; terminates the requirements of paragraph (a) of AD 90-19-07.

Note 9: Airbus Service Bulletin A310-57-2038, Revision 2, dated January 4, 1996; and Airbus Mandatory Service Bulletin A310-57-2038, Revision 04, dated October 19, 2006; are referred to in paragraph (l) of this AD. Airbus Service Bulletin A310-57-2038, Revision 03, dated September 4, 1998, is referred to in paragraph (r) of this AD.

Terminating Action for AD 91-06-18

(u) Accomplishing an inspection in accordance with Airbus Service Bulletin A310-57-2046, Revision 4, dated October 16, 1996, as revised by Airbus Service Bulletin Change Notice 4A, dated October 16, 1996; Airbus Service Bulletin A310-57-2046, Revision 07, dated April 2, 1999; or Airbus Mandatory Service Bulletin A310-57-2046, Revision 08, dated December 1, 2006; terminates the requirements of AD 91-06-18.

Note 10: Airbus Mandatory Service Bulletin A310-57-2046, Revision 08, dated December 1, 2006, is referred to in paragraph (q) of this AD. Airbus Service Bulletin A310-57-2046, Revision 07, dated April 2, 1999, is referred to in paragraph (s) of this AD. Airbus Service Bulletin A310-57-2046, Revision 4, dated October 16, 1996, as revised by Airbus Service Bulletin Change Notice 4A, dated October 16, 1996, is referred to in paragraph (n) of AD 98-26-01.

FAA AD Differences

Note 11: This AD differs from the MCAI and/or service information as follows:

Although the MCAI or service information allows further flight after cracks are found during compliance with the required action, paragraph (j) of this AD requires that you repair the crack(s) before further flight.

Other FAA AD Provisions

(v) The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue, SW., Renton, Washington 98057-3356; telephone (425) 227-2125; fax (425) 227-1149. Information may be e-mailed to: 9-ANM-116-AMOC-REQUESTS@faa.gov. Before using any approved AMOC, notify your principal inspector or lacking a principal inspector, the manager of the local flight standards district office/certificate holding district office. The AMOC approval letter must specifically reference this AD. AMOCs approved previously in accordance with AD 98-26-01, are approved as AMOCs for the corresponding provisions of this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(w) Refer to MCAI EASA Airworthiness Directive 2007-0242, dated September 4, 2007, and the Airbus service bulletins listed in table 6 of this AD for related information.

Table 6—Related Service Information
Service Bulletin | Revision | Date
Airbus Mandatory Service Bulletin A310-57-2002 | 03 | November 28, 2006.
Airbus Mandatory Service Bulletin A310-57-2006 | 04 | May 21, 2007.
Airbus Mandatory Service Bulletin A310-57-2032 | 04 | December 1, 2006.
Airbus Mandatory Service Bulletin A310-57-2038 | 04 | October 19, 2006.
Airbus Mandatory Service Bulletin A310-57-2046 | 08 | December 1, 2006.
Airbus Service Bulletin A310-57-2038 | 2 | January 4, 1996.
Airbus Service Bulletin A310-57-2038 | 03 | September 4, 1998
Airbus Service Bulletin A310-57-2046 | 4 | October 16, 1996.
Airbus Service Bulletin A310-57-2046 | 07 | April 2, 1999.
Airbus Service Bulletin A310-57-2046, Change Notice 4A | Original | October 16, 1996.

Material Incorporated by Reference

(x) You must use the service bulletins contained in table 7 of this AD to do the actions required by this AD, unless the AD specifies otherwise. If you accomplish the optional terminating actions specified by this AD, you must use the service information contained in table 7 of this AD to perform those actions unless the AD specifies otherwise.

Table 7—All Material Incorporated by Reference
Service Bulletin | Revision | Date | Required/optional action
Airbus Mandatory Service Bulletin A310-57-2002 | 03 | November 28, 2006 | Required.
Airbus Mandatory Service Bulletin A310-57-2006 | 04 | May 21, 2007 | Required.
Airbus Mandatory Service Bulletin A310-57-2032 | 04 | December 1, 2006 | Required.
Airbus Mandatory Service Bulletin A310-57-2038 | 04 | October 19, 2006 | Required and optional.
Airbus Mandatory Service Bulletin A310-57-2046 | 08 | December 1, 2006 | Required and optional.
Airbus Service Bulletin A310-57-2038 | 2 | January 4, 1996 | Optional.
Airbus Service Bulletin A310-57-2038 | 03 | September 4, 1998 | Optional.
Airbus Service Bulletin A310-57-2046 | 4 | October 16, 1996 | Optional.
Airbus Service Bulletin A310-57-2046 | 07 | April 2, 1999 | Optional.
Airbus Service Bulletin A310-57-2046, Change Notice 4A | Original | October 16, 1996 | Optional.

(1) The Director of the Federal Register approved the incorporation by reference of the service information contained in table 8 of this AD under 5 U.S.C. 552(a) and 1 CFR part 51.

Table 8—New Material Incorporated by Reference
Service Bulletin | Revision | Date
Airbus Mandatory Service Bulletin A310-57-2002 | 03 | November 28, 2006.
Airbus Mandatory Service Bulletin A310-57-2006 | 04 | May 21, 2007.
Airbus Mandatory Service Bulletin A310-57-2032 | 04 | December 1, 2006.
Airbus Mandatory Service Bulletin A310-57-2038 | 04 | October 19, 2006.
Airbus Mandatory Service Bulletin A310-57-2046 | 08 | December 1, 2006.
Airbus Service Bulletin A310-57-2038 | 03 | September 4, 1998.
Airbus Service Bulletin A310-57-2046 | 07 | April 2, 1999.

(2) The Director of the Federal Register previously approved the incorporation by reference of the service information contained in table 9 of this AD on January 20, 1999 (63 FR 69179, December 16, 1998).

Table 9—Material Previously Incorporated by Reference
Service Bulletin | Revision | Date
Airbus Service Bulletin A310-57-2038 | 2 | January 4, 1996.
Airbus Service Bulletin A310-57-2046 | 4 | October 16, 1996.
Airbus Service Bulletin A310-57-2046, Change Notice 4A | Original | October 16, 1996.

(3) For service information identified in this AD, contact Airbus SAS—EAW (Airworthiness Office), 1 Rond Point Maurice Bellonte, 31707 Blagnac Cedex, France; telephone +33 5 61 93 36 96; fax +33 5 61 93 44 51; e-mail account.airworth-eas@airbus.com; Internet http://www.airbus.com.

(4) You may review copies of the service information at the FAA, Transport Airplane Directorate, 1601 Lind Avenue, SW., Renton, Washington. For information on the availability of this material at the FAA, call 425-227-1221.

(5) You may also review copies of the service information that is incorporated by reference at the National Archives and Records Administration (NARA). For information on the availability of this material at NARA, call 202-741-6030, or go to: http://www.archives.gov/federal_register/code_of_federal_regulations/ibr_locations.html.

Issued in Renton, Washington, on April 22, 2011.
Ali Bahrami,
Manager, Transport Airplane Directorate, Aircraft Certification Service.

[FR Doc. 2011-10684 Filed 5-10-11; 8:45 am]

BILLING CODE 4910-13-P